DEPARTMENT OF HOMELAND SECURITY

Transportation Security Administration

[Docket No. TSA-2011-0008]

Aviation Security Advisory Committee; Public Meeting

AGENCY: Transportation Security Administration, DHS.

ACTION: Committee management; notice of open Federal advisory committee meeting.

SUMMARY: The Transportation Security Administration (TSA) will hold a public meeting of the Aviation Security Advisory Committee (ASAC) on December 11, 2024. Members of the ASAC will meet in person at the TSA Headquarters. Members of the public will be able to participate virtually via Teams. The meeting agenda and information on public participation is provided below under the SUPPLEMENTARY INFORMATION section.

DATES: The meeting will take place on Thursday, December 11, 2024. The meeting will begin at 10 a.m. and adjourn at 1 p.m., eastern standard time (EST). As listed in the Public Participation section below, requests to attend the meeting, to address the ASAC, and/or for accommodations because of a disability, must be received by November 29, 2024.

ADDRESSES: The in-person meeting for ASAC members will be held at the TSA Headquarters, located at 6595 Springfield Center Drive, Springfield, Virginia 20598. See Public Participation section below for information on how to register to attend the meeting. Attendance information will be provided upon registration.

FOR FURTHER INFORMATION CONTACT: Tamika McCree Elhilali, Aviation Security Advisory Committee, Designated Federal Officer, U.S. Department of Homeland Security, Transportation Security Administration, 6595 Springfield Center Drive, (TSA-28), Springfield, Virginia 20598, ASAC@tsa.dhs.gov, 571-227-2632.

SUPPLEMENTARY INFORMATION:

Background

TSA is providing notice of this meeting in accordance with the Aviation Security Stakeholder Participation Act of 2014, Public Law 113-238 (128 Stat. 2842; Dec. 18, 2014), as codified at 49 U.S.C. 44946. The ASAC provides advice and industry perspective to the Administrator of TSA on aviation security matters, including the development, refinement, and implementation of policies, programs, rulemaking, and security directives pertaining to aviation security. While the ASAC is exempt from the Federal Advisory Committee Act (5 U.S.C. ch. 10), see 49 U.S.C. 44946(f), paragraph 44946(c)(4)(B) requires that TSA hold at least one public meeting each year.

Meeting Agenda

The Committee will meet to discuss items listed in the agenda below:

• Legislative Update

• TSA Budget Update

• Subcommittee and Work Group briefings on calendar year (CY) 2024 activities, key issues, and areas of focus for CY 2025:

○ Air Cargo

○ Airlines

○ Airports

○ General Aviation

○ Insider Threat

○ International Aviation

○ Security Technology

• Public Comments

• Closing Comments and Adjournment

Public Participation

The meeting will be open to the public via Teams. Members of the public who wish to participate are required to register via email by submitting their name, contact number, and affiliation (if applicable) to ASAC@tsa.dhs.gov by November 29, 2024. Attendees will be admitted on a first-to-register basis and attendance may be limited due to Teams meeting constraints. Attendance information will be provided upon registration.

Members of the public wishing to present oral or written statements must make advance arrangements by November 29, 2024. The statements must specifically address issues pertaining to the items listed in the Meeting Agenda above. Advance requests to present and/or written statements must be submitted via email to ASAC@tsa.dhs.gov. The public comment period will begin at approximately 12 p.m. and will end at 1 p.m. EST. Oral presenters are requested to limit their comments to 3 minutes.

The ASAC and TSA are committed to ensuring all participants have equal access regardless of disability status. If you need alternative formats or services because of a disability, to full participate, please contact the person listed in the FOR FURTHER INFORMATION CONTACT section by November 29, 2024.

Dated: November 18, 2024.
Eddie D. Mayenschein,
Assistant Administrator, Policy, Plans, and Engagement.

[FR Doc. 2024-27441 Filed 11-21-24; 8:45 am]

BILLING CODE 9110-05-P